DEPARTMENT OF DEFENSE

Department of the Army

[Docket ID: USA-2015-0015]

Proposed Collection; Comment Request

AGENCY: U.S. Army Corps of Engineers, Department of Army, Department of Defense.

ACTION: Notice.

SUMMARY: In compliance with the Paperwork Reduction Act of 1995, the Office of the Assistant Secretary of Defense for Civil Works announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 7, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the U.S. Army Corps of Engineers, Institute for Water Resources, Casey Building, 8801 Telegraph Road, Alexandria, VA 22315 ATTN: Meredith Bridgers or call 703-428-8458.

SUPPLEMENTARY INFORMATION:

Title; Associated Form; and OMB Number: Recreation Area and Visitor Center Visitor Comment Cards; Generic Collection for OMB Control Number 0710-XXXX.

Needs and Uses: The information collection requirement is necessary to understand and determine the satisfaction of recreation visitors to US Army Corps of Engineers managed recreation areas.

Affected Public: Public Visitors to US Army Corps of Engineers managed recreation areas.

Annual Burden Hours: 3750 hours.

Number of Respondents: 45,000.

Responses per Respondent: 1.

Average Burden per Response: 5 minutes (0.083 hours).

Frequency: On occasion.

Respondents to this generic collection of information via comment cards are public visitors to U.S. Army Corps of Engineers Recreation Areas. Participation is voluntary. Comment cards are distributed via two methods. In a rack, for example at a visitor center or kiosk, resulting in visitor initiated response. Or scheduled surveys where visitors are intercepted by a survey clerk. The respondent is selected from exiting visitors where one member of the party is asked to complete the card and return to the survey clerk. Recreation areas where comment cards are used meet visitation and funding thresholds or a local administrative need. Survey Clerks are staff or USACE trained volunteers. Visitors are asked questions in the following categories; previous visits, area information sources, fees charged, facilities used, facility rating, and demographics.

Dated: May 5, 2015.
Aaron Siegel,
Alternate OSD Federal Register Liaison Officer, Department of Defense.

[FR Doc. 2015-11102 Filed 5-7-15; 8:45 am]

BILLING CODE 5001-06-P